DEPARTMENT OF ENERGY

Federal Energy Regulatory Commission

[Docket Nos. ER15-1344-001; ER15-1344-002; ER15-1387-001]

PJM Interconnection, L.L.C.; PJM Interconnection, L.L.C.; Potomac Electric Power Company; Notice of Technical Conference

By order dated September 15, 2015,¹ the Commission directed staff to convene a technical conference regarding PJM Interconnection, L.L.C.'s (PJM) filing, in Docket Nos. ER15-1344-001 and ER15-1344-002, related to cost responsibility assignments for 61 baseline upgrades included in the recent update to the PJM Regional Transmission Expansion Plan (RTEP), and regarding requests for rehearing, submitted in Docket No. ER15-1387-001, related to the PJM Transmission Owners' proposal to change the cost allocation methodology for reliability projects selected in the RTEP solely to address local transmission owner planning criteria. The technical conference will explore issues related to PJM's application of its Order No. 1000-compliant transmission planning process ² to local transmission facilities, including, but not limited to, the process PJM and the PJM Transmission Owners use to identify local transmission needs and to solicit proposed solutions to identified local transmission needs (such as opening proposal windows),³ and the process PJM uses to determine whether a transmission solution to an identified local transmission need should be selected in the regional transmission plan for purposes of cost allocation as the more efficient or cost-effective transmission solution.

¹ PJM Interconnection, L.L.C., 152 FERC ¶ 61,197 (2015).

² Transmission Planning and Cost Allocation by Transmission Owning and Operating Public Utilities, Order No. 1000, FERC Stats. & Regs. ¶ 31,323 (2011), order on reh'g, Order No. 1000-A, 139 FERC ¶ 61,132, order on reh'g, Order No. 1000-B, 141 FERC ¶ 61,044 (2012), aff'd sub nom. S.C. Pub. Serv. Auth. v. FERC, 762 F.3d 41 (D.C. Cir. 2014).

³ As discussed in the order establishing the technical conference, Dominion Resources Services' revisions to its individual transmission planning criteria will not be discussed at the technical conference. PJM Interconnection, L.L.C., 152 FERC ¶ 61,197 at P15 (2015).

Take notice that such conference will be held on November 12, 2015, at the Commission's headquarters at 888 First Street NE., Washington, DC 20426 between 10:00 a.m. and 4:00 p.m. (Eastern Time) in Hearing Room 7. Additional information regarding the conference program will be provided in a subsequent supplemental notice of technical conference.

The technical conference will be led by Commission staff. The conference is open to the public. Pre-registration through the Commission's Web site (https://www.ferc.gov/whats-new/registration/11-12-15-form.asp) is encouraged but not required.

The technical conference will not be transcribed. However, there will be a free audio cast of the conference. Anyone wishing to listen to the meeting should send an email to Sarah McKinley at sarah.mckinley@ferc.gov by November 3, 2015, to request call-in information. Please reference “call information for ER15-1344/1387 technical conference” in the subject line of the email. The call-in information will be provided prior to the meeting. Persons listening to the technical conference may participate by submitting questions, either prior to or during the technical conference, by emailing RTEPconference@ferc.gov.

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference, please contact Katherine Scott, 202-502-6495, katherine.scott@ferc.gov, regarding Docket Nos. ER15-1344-001 and ER15-1344-002; Nicole Buell, 202-502-6846, nicole.buell@ferc.gov, regarding Docket No. ER15-1387-001; or Sarah McKinley, 202-502-8368, sarah.mckinley@ferc.gov, regarding logistical issues.

Dated: October 8, 2015.
Kimberly D. Bose,
Secretary.

[FR Doc. 2015-26182 Filed 10-14-15; 8:45 am]

BILLING CODE 6717-01-P